DEPARTMENT OF COMMERCE

International Trade Administration

[A-583-827]

Static Random Access Memory Semiconductors From Taiwan; Preliminary Results and Partial Rescission of Antidumping Duty Administrative Review

AGENCY: Import Administration, International Trade Administration, Department of Commerce.

SUMMARY: In response to requests by various interested parties, the Department of Commerce is conducting an administrative review of the antidumping duty order on static random access memory semiconductors from Taiwan. This review covers the U.S. sales and/or entries of four manufacturers/exporters. In addition, we are rescinding this review with respect to one company. The period of review is April 1, 1999, through March 31, 2000.

We have preliminarily determined that sales have been made below the normal value by each of the companies subject to this review. If these preliminary results are adopted in the final results of this administrative review, we will instruct the Customs Service to assess antidumping duties on all appropriate entries.

We invite interested parties to comment on these preliminary results. Parties who wish to submit comments in this proceeding are requested to submit with each argument: (1) A statement of the issue; and (2) a brief summary of the argument.

EFFECTIVE DATE: May 4, 2001.

FOR FURTHER INFORMATION CONTACT: Irina Itkin, Office of AD/CVD Enforcement, Office 2, Import Administration, International Trade Administration, U.S. Department of Commerce, 14th Street and Constitution Avenue, NW, Washington, DC 20230; telephone (202) 482-0656.

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (2000).

Background

In accordance with 19 CFR 351.213(b)(2), in April 2000, the following two producers/exporters of SRAMs requested an administrative review of the antidumping duty order on SRAMs from Taiwan: Galvantech, Inc. (Galvantech), and GSI Technology, Inc. (GSI Technology). In addition, the petitioner, Micron Technology, Inc., requested an administrative review of GSI Technology, as well as G-Link Technology (G-Link), Integrated Silicon Solution Inc. (ISSI), and Winbond Electronics Corporation (Winbond).

In May 2000, the Department initiated an administrative review for each of these companies (65 FR 35320 (June 2, 2000)) and issued questionnaires to them.

On June 16, 2000, the Department extended the time limit for completion of the preliminary results until April 30, 2001. See Static Random Access Memory Semiconductors From Taiwan: Notice of Extension of Time Limits for Antidumping Duty Administrative Review, 65 FR 38809 (June 22, 2000).

In December 2000, we received responses to sections A through C of the questionnaire (i.e., the sections relating to general information, home market sales, and U.S. sales) from each of the respondents. In addition, we also received responses to section D of the questionnaire (i.e., the section relating to cost of production (COP)/constructed value (CV)) from all companies except Galvantech.

On January 9, 2001, the petitioner alleged that Galvantech was selling at prices below the COP in its home market. Based on an analysis of this allegation, the Department initiated an investigation to determine whether Galvantech made home market sales during the period of review (POR) at prices below the COP within the meaning of section 773(b) of the Act. Consequently, we required Galvantech to submit a response to section D of the questionnaire.

In January 2001, we issued a supplemental questionnaire to G-Link. We received a response to this questionnaire in February 2001.

In February 2001, we issued supplemental questionnaires to GSI Technology and Winbond. We received responses to these questionnaires in March 2001.

On February 5, 2001, Galvantech withdrew its request for an administrative review. Accordingly, we are rescinding this review with respect to Galvantech. For further discussion, see the “Partial Rescission of Review” section of this notice, below.

In March 2001, we issued a supplemental questionnaire to ISSI. We received a response to this questionnaire in April 2001.

Scope of the Review

The products covered by this review are synchronous, asynchronous, and specialty SRAMs from Taiwan, whether assembled or unassembled. Assembled SRAMs include all package types. Unassembled SRAMs include processed wafers or die, uncut die and cut die. Processed wafers produced in Taiwan, but packaged, or assembled into memory modules in a third country, are included in the scope; processed wafers produced in a third country and assembled or packaged in Taiwan are not included in the scope. The scope of this review includes modules containing SRAMs. Such modules include single in-line processing modules, single in-line memory modules, dual in-line memory modules, memory cards, or other collections of SRAMs, whether unmounted or mounted on a circuit board. The scope of this review does not include SRAMs that are physically integrated with other components of a motherboard in such a manner as to constitute one inseparable amalgam (i.e., SRAMs soldered onto motherboards). The SRAMs within the scope of this review are currently classifiable under subheadings 8542.13.8037 through 8542.13.8049, 8473.30.10 through 8473.30.90, 8542.13.8005, and 8542.14.8004 of the Harmonized Tariff Schedule of the United States (HTSUS). Although the HTSUS subheadings are provided for convenience and customs purposes, the written description of the scope of this proceeding is dispositive.

Period of Review

The POR is April 1, 1999, through March 31, 2000.

Partial Rescission of Review

As noted above, on February 5, 2001, Galvantech withdrew its request for an administrative review. No other interested party requested a review of sales of merchandise produced or exported by Galvantech during the POR. Although Galvantech asked to withdraw its review request after the 90-day time limit specified in 19 CFR 351.213(d)(1), the review had not yet progressed beyond a point where it would have been unreasonable to allow Galvantech to withdraw its request for review. Therefore, in accordance with 19 CFR 351.213(d)(1) and consistent with our practice, we are rescinding our review with respect to Galvantech. For further discussion, see the February 8, 2001, memorandum from the Team to Louis Apple, entitled “Request by Cypress Semiconductor Corporation to Withdraw its Request for an Administrative Review in the 1999-2000 Antidumping Duty Administrative Review on Static Random Access Memory Semiconductors from Taiwan.”

Duty Absorption

On June 26, 2000, the petitioner requested that the Department determine whether antidumping duties had been absorbed during the POR by the respondents. Section 751(a)(4) of the Act provides for the Department, if requested, to determine during an administrative review initiated two or four years after the publication of the order, whether antidumping duties have been absorbed by a foreign producer or exporter, if the subject merchandise is sold in the United States through an affiliated importer. Because each respondent sold to unaffiliated customers in the United States through an importer that is affiliated, and because this review was initiated two years after the publication of the order, we will make a duty absorption determination in this segment of the proceeding within the meaning of section 751(a)(4) of the Act.

On July 11, 2000, the Department requested evidence from each respondent to demonstrate that U.S. purchasers will pay any ultimately assessed duties charged to them. The Department requested that this information be provided no later than December 11, 2000. No respondent provided such evidence. Consequently, we have preliminarily determined that duty absorption by all respondents has occurred in this administrative review. As our analysis of the dumping margins may be modified in our final results, if interested parties wish to submit evidence that the unaffiliated purchasers in the United States will pay any ultimately assessed duty charged to affiliated importers, they must do so no later than 15 days after publication of these preliminary results. Any such information will be considered by the Department if we determine in our final results that there are dumping margins on the respondents' U.S. sales.

Normal Value Comparisons

To determine whether sales of SRAMs from Taiwan to the United States were made at less than normal value (NV), we compared the constructed export price (CEP) to the NV for each respondent as specified in the “Constructed Export Price” and “Normal Value” sections of this notice, below.

When making comparisons in accordance with section 771(16) of the Act, we considered all products sold in the foreign market as described in the “Scope of the Review” section of this notice, above, that were in the ordinary course of trade. Where there were no sales of identical merchandise in the foreign market made in the ordinary course of trade to compare to U.S. sales in the same quarter, we compared U.S. sales to sales of the most similar foreign like product made in the ordinary course of trade within the quarter, or to CV, as appropriate.

Level of Trade

In accordance with section 773(a)(1)(B) of the Act, to the extent practicable, we determine NV based on sales in the comparison market at the same level of trade as the CEP. The NV level of trade is that of the starting-price sales in the comparison market or, when NV is based on CV, that of the sales from which we derive selling, general and administrative expenses (SG&A) and profit. For CEP, the U.S. level of trade is the level of the constructed sale from the exporter to the importer.

To determine whether NV sales are at a different level of trade than CEP sales, we examine stages in the marketing process and selling functions along the chain of distribution between the producer and the unaffiliated customer. If the comparison-market sales are at a different level of trade and the difference affects price comparability, as manifested in a pattern of consistent price differences between the sales on which NV is based and comparison-market sales at the level of trade of the export transaction, we make a level-of-trade adjustment under section 773(a)(7)(A) of the Act. Finally, for CEP sales, if the NV level is more remote from the factory than the CEP level and there is no basis for determining whether the difference in the levels between NV and CEP affects price comparability, we adjust NV under section 773(a)(7)(B) of the Act (the CEP offset provision). See Notice of Final Determination of Sales at Less Than Fair Value: Certain Cut-to-Length Carbon Steel Plate from South Africa, 62 FR 61731 (Nov. 19, 1997).

G-Link claimed that it made home market sales at only one level of trade, while GSI Technology, ISSI, and Winbond claimed that they made home market sales at two levels of trade (i.e., to original equipment manufacturers (OEMs) and distributors). We examined the selling activities at each reported marketing stage for each respondent and found that there was no substantive difference in the selling functions performed at any of these alleged stages. Consequently, we determine that only one level of trade exists with respect to sales made by these companies to all home market customers.

In order to determine whether NV was established at a level of trade which constituted a more advanced stage of distribution than the level of trade of the CEP, we compared the selling functions performed for home market sales with those performed with respect to the CEP transaction, which excludes economic activities occurring in the United States, pursuant to section 772(d) of the Act.

Based on this comparison, we found that G-Link performed essentially the same selling functions in its sales offices in Taiwan for home market and U.S. sales. Therefore, G-Link's home market sales were not at a more advanced stage of marketing and distribution than the constructed U.S. level of trade, which represents an F.O.B. foreign port price after the deduction of expenses associated with U.S. selling activities. Because we find that no difference in level of trade exits between markets, we have not granted a CEP offset to G-Link.

Regarding GSI Technology, we found that this respondent generally performed all selling functions for certain home market sales at its head office in the United States, while it performed additional selling functions for its remaining home market sales through an affiliated party in Taiwan. We also found that this respondent performed all of the selling functions related to its U.S. sales at its U.S. office. These selling functions are associated with those expenses which we deduct from the CEP starting price, as specified in section 772(d) of the Act. Therefore, we find that GSI Technology's sales in the home market were at a more advanced stage of marketing and distribution (i.e., more remote from the factory) than the constructed U.S. level of trade.

Similarly, we found that ISSI performed a number of selling functions and services related to home market sales at its sales office in the United States, in addition to the selling functions performed with respect to these sales by the affiliated entity in Taiwan. We also found that this respondent performed the majority of the selling functions related to its U.S. sales at its U.S. office. These selling functions are associated with those expenses which we deduct from the CEP starting price, as specified in section 772(d) of the Act. Therefore, we find that ISSI's sales in the home market were at a more advanced stage of marketing and distribution (i.e., more remote from the factory) than the constructed U.S. level of trade.

Finally, regarding Winbond, we found that this company performed most of the selling functions and services related to U.S. sales at its sales office in the United States. These selling functions are associated with those expenses which we deduct from the CEP starting price, as specified in section 772(d) of the Act. Therefore, we find that Winbond's sales in the home market were at a more advanced stage of marketing and distribution (i.e., more remote from the factory) than the constructed U.S. level of trade.

Because GSI Technology, ISSI, and Winbond sell at only one level of trade in the home market, we find that the difference in the levels of trade between the home and U.S. markets cannot be quantified. Because the difference in the levels of trade cannot be quantified, but the home market is at a more advanced level of trade, we have granted a CEP offset to GSI Technology, ISSI, and Winbond. For a detailed explanation of our analysis for all four respondents, see the memorandum from the Team to Louis Apple, entitled “Concurrence Memorandum for the Preliminary Results of the 1999-2000 Antidumping Duty Administrative Review on Static Random Access Memory Semiconductors from Taiwan,” dated April 30, 2001.

Constructed Export Price

In accordance with section 772(b) of the Act, we used CEP methodology because all sales took place after importation into the United States.

A. G-Link

We calculated CEP based on the starting price to the first unaffiliated purchaser in the United States. Where appropriate, we made deductions for foreign inland freight, foreign brokerage and handling expenses, international freight, foreign inland insurance, marine insurance, U.S. customs duties, U.S. merchandise processing fees, U.S. warehousing, and U.S. freight expenses, in accordance with section 772(c)(2)(A) of the Act.

We made additional deductions from CEP, where appropriate, for commissions, credit expenses and U.S. indirect selling expenses, including U.S. inventory carrying costs, in accordance with section 772(d)(1) of the Act.

Pursuant to section 772(d)(3) of the Act, we further reduced the starting price by an amount for profit to arrive at the CEP. In accordance with section 772(f) of the Act, we calculated the CEP profit rate using the expenses incurred by G-Link and its affiliate on their sales of the subject merchandise in the United States and the foreign like product in the home market and the profit associated with those sales.

B. GSI Technology

We based CEP on the starting price to the first unaffiliated purchaser in the United States. Where appropriate, we made deductions from the starting price for discounts. We also made deductions for foreign inland freight, foreign warehousing, international freight, marine insurance, U.S. merchandise processing fees, U.S. inland freight, U.S. customs duties, and U.S. warehousing expenses, in accordance with section 772(c)(2)(A) of the Act.

We made additional deductions from CEP, where appropriate, for credit expenses, commissions, warranty expenses, and U.S. indirect selling expenses, including U.S. inventory carrying costs and other indirect selling expenses, in accordance with section 772(d)(1) of the Act.

Pursuant to section 772(d)(3) of the Act, we further reduced the starting price by an amount for profit to arrive at CEP. In accordance with section 772(f) of the Act, we calculated the CEP profit rate using the expenses incurred by GSI Technology and its affiliate on their sales of the subject merchandise in the United States and the foreign like product in the home market and the profit associated with those sales.

C. ISSI

We based CEP on the starting price to the first unaffiliated purchaser in the United States. Where appropriate, we made deductions from the starting price for billing adjustments and discounts. However, we disallowed the negative discounts reported by ISSI because it has not demonstrated that these credits related to POR sales. We also made deductions for foreign inland freight, foreign warehousing, foreign brokerage and handling, international freight, marine insurance, U.S. inland freight, U.S. merchandise processing fees, U.S. harbor maintenance fees, and U.S. warehousing expenses, in accordance with section 772(c)(2)(A) of the Act.

We made additional deductions from CEP, where appropriate, for credit expenses, commissions, repacking expenses, and U.S. indirect selling expenses, including U.S. inventory carrying costs and other indirect selling expenses, in accordance with section 772(d)(1) of the Act.

Pursuant to section 772(d)(3) of the Act, we further reduced the starting price by an amount for profit to arrive at the CEP. In accordance with section 772(f) of the Act, we calculated the CEP profit rate using the expenses incurred by ISSI and its affiliate on their sales of the subject merchandise in the United States and the foreign like product in the home market and the profit associated with those sales.

D. Winbond

We based CEP on the starting price to the first unaffiliated purchaser in the United States. In accordance with section 772(c)(1)(B) of the Act, we added an amount for uncollected import duties in Taiwan. Where appropriate, we made deductions for foreign inland freight, foreign warehousing, foreign brokerage and handling expenses, inland insurance, international freight, marine insurance, U.S. merchandise processing fees, and U.S. warehousing expenses, in accordance with section 772(c)(2)(A) of the Act.

We made additional deductions from CEP, where appropriate, for commissions, credit expenses, and U.S. indirect selling expenses, including U.S. inventory carrying costs and other indirect selling expenses, in accordance with section 772(d)(1) of the Act.

Pursuant to section 772(d)(3) of the Act, we further reduced the starting price by an amount for profit to arrive at the CEP. In accordance with section 772(f) of the Act, we calculated the CEP profit rate using the expenses incurred by Winbond and its affiliate on their sales of the subject merchandise in the United States and the foreign like product in the home market and the profit associated with those sales.

Normal Value

In order to determine whether there was a sufficient volume of sales in the foreign market to serve as a viable basis for calculating NV (i.e., the aggregate volume of home market sales of the foreign like product is greater than five percent of the aggregate volume of U.S. sales), we compared the volume of each respondent's home market sales of the foreign like product to the volume of U.S. sales of subject merchandise, in accordance with 19 CFR 351.404(b). Based on this comparison, we determined that each of the respondents had a viable home market during the POR. Consequently, we based NV on home market sales for each respondent.

Pursuant to section 773(b)(2)(A)(ii) of the Act, there were reasonable grounds to believe or suspect that each respondent had made home market sales at prices below their COPs in this review. In the less-than-fair-value (LTFV) investigation, the Department disregarded below-cost sales for ISSI made in the home market. (See Notice of Final Determination of Sales at Less Than Fair Value: Static Random Access Memory Semiconductors From Taiwan, 63 FR 8909, 8913 (Feb. 23, 1998).) Also, in the most recently completed administrative review, the Department disregarded below-cost sales for G-Link, GSI Technology, and Winbond (ISSI was not reviewed). (See Static Random Access Memory Semiconductors From Taiwan; Final Results and Partial Rescission of Antidumping Duty Administrative Review, 65 FR 55005 (Sep. 12, 2000).) As a result, the Department initiated an investigation to determine whether each respondent made home market sales during the POR at prices below their COPs.

We calculated the COP based on the sum of each respondent's cost of materials and fabrication for the foreign like product in each quarter of the POR, plus amounts for general and administrative expenses and financing costs, in accordance with section 773(b)(3) of the Act.

We compared the weighted-average quarterly COP figures to home market prices of the foreign like product, as required under section 773(b) of the Act, in order to determine whether these sales had been made at prices below their respective COPs. On a product-specific basis, we compared the COP to foreign market prices, less any applicable movement charges, discounts, rebates, selling expenses, and packing expenses.

In determining whether to disregard foreign market sales made at prices below the COP, we examined whether such sales were made: 1) in substantial quantities within an extended period of time; and 2) at prices which permitted the recovery of all costs within a reasonable period of time in the normal course of trade. See section 773(b)(1) of the Act.

Pursuant to section 773(b)(2)(C)(i) of the Act, where less than 20 percent of a respondent's sales of a given product were at prices below the COP, we did not disregard any below-cost sales of that product because we determined that the below-cost sales were not made in “substantial quantities.”

Where 20 percent or more of a respondent's sales of a given product were at prices below the COP, we found that sales of that model were made in “substantial quantities” within an extended period of time, in accordance with section 773(b)(2)(B) and (C) of the Act. To determine whether prices provided for recovery of costs within a reasonable period of time, we tested whether the prices which were below the per-unit cost of production at the time of the sale were also below the weighted-average per-unit cost of production for the POR, in accordance with section 773(b)(2)(D). If they were, we disregarded the below-cost sales in determining NV. We did not disregard any below-cost sales for GSI Technology.

We found that, for certain models of SRAMs, more than 20 percent of each respondent's foreign market sales within an extended period of time were at prices below the COP. Further, the prices did not provide for the recovery of costs within a reasonable period of time. We therefore disregarded the below-cost sales and used the remaining sales as the basis for determining NV, in accordance with section 773(b)(1) of the Act. For those U.S. sales of SRAMs for which there were no comparable home market sales in the ordinary course of trade, we compared CEP to CV, in accordance with section 773(a)(4) of the Act.

In accordance with section 773(e) of the Act, we calculated CV based on the sum of each respondent's cost of materials, fabrication, SG&A (including financing expenses), profit, and U.S. packing costs. In accordance with section 773(e)(2)(A) of the Act, we based SG&A, financing expenses, and profit on the amounts incurred and realized by each respondent in connection with the production and sale of the foreign like product in the ordinary course of trade for consumption in the foreign country.

Company-specific calculations are discussed below.

A. G-Link

Where NV was based on home market sales, we based NV on the starting price to unaffiliated customers. We made deductions from the starting price for foreign inland freight and foreign inland insurance, where appropriate, pursuant to section 773(a)(6)(B) of the Act. Pursuant to section 773(a)(6)(C)(iii) of the Act, we also made deductions for home market credit expenses.

Where applicable, in accordance with 19 CFR 351.410(e), we offset any commission paid on a U.S. sale by reducing the NV by home market indirect selling expenses, up to the amount of the U.S. commission.

For all price-to-price comparisons, we deducted home market packing costs and added U.S. packing costs, in accordance with section 773(a)(6) of the Act. Where appropriate, we made adjustments to NV to account for differences in physical characteristics of the merchandise, in accordance with section 773(a)(6)(C)(ii) of the Act and 19 CFR 351.411.

Where NV was based on CV, we deducted from CV the weighted-average foreign market direct selling expenses, in accordance with sections 773(a)(6)(C)(iii) and 773(a)(8) of the Act. Where applicable, we offset any commission paid on a U.S. sale by reducing the NV by the amount of home market indirect selling expenses, up to the amount of the U.S. commission.

B. GSI Technology

We based NV on the starting price to unaffiliated customers. We made deductions from the starting price for foreign warehousing, where appropriate, pursuant to section 773(a)(6)(B) of the Act. Pursuant to section 773(a)(6)(C)(iii) of the Act, we also made deductions for home market credit expenses and commissions.

We deducted home market indirect selling expenses, including inventory carrying costs, advertising expenses, and other indirect selling expenses, up to the amount of indirect selling expenses incurred on U.S. sales, in accordance with section 773(a)(7)(B) of the Act. Where applicable, in accordance with 19 CFR 351.410(e), we offset any commission paid on a U.S. sale by reducing the NV by any home market indirect selling expenses remaining after the deduction for the CEP offset, up to the amount of the U.S. commission.

For all price-to-price comparisons, we deducted home market packing costs and added U.S. packing costs, in accordance with section 773(a)(6) of the Act. Where appropriate, we made adjustments to NV to account for differences in physical characteristics of the merchandise, in accordance with section 773(a)(6)(C)(ii) of the Act and 19 CFR 351.411.

Where NV was based on CV, we deducted from CV the weighted-average home market direct selling expenses and commissions, in accordance with sections 773(a)(6)(C)(iii) and 773(a)(8) of the Act. In accordance with section 773(a)(7)(B) of the Act, we granted a CEP offset adjustment, calculated as noted above. Where applicable, we offset any commission paid on a U.S. sale by reducing the NV by any home market selling expenses remaining after the deduction of the CEP offset, up to the amount of the U.S. commission.

C. ISSI

Where NV was based on home market sales, we based NV on the starting price to unaffiliated customers, less rebates, where appropriate. We made deductions from the starting price, where appropriate, for foreign inland freight and foreign inland insurance, pursuant to section 773(a)(6)(B) of the Act. Pursuant to section 773(a)(6)(C)(iii) of the Act, we also made deductions for home market credit expenses, bank charges, and industrial park administration fees, where appropriate.

We deducted home market indirect selling expenses, including inventory carrying costs and other indirect selling expenses, up to the amount of indirect selling expenses incurred on U.S. sales, in accordance with section 773(a)(7)(B) of the Act. Where applicable, in accordance with 19 CFR 351.410(e), we offset any commission paid on a U.S. sale by reducing the NV by any home market selling expenses remaining after the deduction for the CEP offset, up to the amount of the U.S. commission.

In addition, we deducted home market packing costs and added U.S. packing costs, in accordance with section 773(a)(6) of the Act. Where appropriate, we made adjustments to the NV to account for differences in physical characteristics of the merchandise, in accordance with section 773(a)(6)(C)(ii) of the Act and 19 CFR 351.411.

Where NV was based on CV, we deducted from CV the weighted-average home market direct selling expenses, in accordance with sections 773(a)(6)(C)(iii) and 773(a)(8) of the Act. In accordance with section 773(a)(7)(B) of the Act, we granted a CEP offset adjustment, calculated as explained above. Where applicable, we offset any commission paid on a U.S. sale by reducing the NV by any home market indirect selling expenses remaining after the deduction for the CEP offset, up to the amount of the U.S. commission.

D. Winbond

Where NV was based on home market sales, we based NV on the starting price to unaffiliated customers, less billing adjustments, early payment discounts, and quality discounts, where appropriate. We made deductions from the starting price for foreign inland freight, foreign brokerage and handling, and foreign inland insurance, pursuant to section 773(a)(6)(B) of the Act. Pursuant to section 773(a)(6)(C)(iii) of the Act, we also made deductions for home market credit expenses and trade development fees, where appropriate.

We deducted home market indirect selling expenses, including inventory carrying costs and other indirect selling expenses, up to the amount of indirect selling expenses incurred on U.S. sales, in accordance with section 773(a)(7)(B) of the Act. Where applicable, in accordance with 19 CFR 351.410(e), we offset any commission paid on a U.S. sale by reducing the NV by any home market selling expenses remaining after the deduction for the CEP offset, up to the amount of the U.S. commission.

In addition, we deducted home market packing costs and added U.S. packing costs, in accordance with section 773(a)(6) of the Act. Where appropriate, we made adjustments to NV to account for differences in physical characteristics of the merchandise, in accordance with section 773(a)(6)(C)(ii) of the Act and 19 CFR 351.411.

Where NV was based on CV, we deducted from CV the weighted-average foreign market direct selling expenses, in accordance with sections 773(a)(6)(C)(iii) and 773(a)(8) of the Act. In accordance with section 773(a)(7)(B) of the Act, we granted a CEP offset adjustment, calculated as explained above. Where applicable, we offset any commission paid on a U.S. sale by reducing the NV by any home market indirect selling expenses remaining after the deduction for the CEP offset, up to the amount of the U.S. commission.

Currency Conversion

We made currency conversions into U.S. dollars in accordance with section 773A(a) of the Act, based on the exchange rates in effect on the dates of the U.S. sales as certified by the Federal Reserve Bank.

Section 773A(a) of the Act directs the Department to use a daily exchange rate in order to convert foreign currencies into U.S. dollars unless the daily rate involves a fluctuation. It is the Department's practice to find that a fluctuation exists when the daily exchange rate differs from the benchmark rate by 2.25 percent. The benchmark is defined as the moving average of rates for the past 40 business days. When we determine a fluctuation to have existed, we substitute the benchmark for the daily rate, in accordance with established practice.

Preliminary Results of Review

As a result of our review, we preliminarily determine that the following margins exist for the period April 1, 1999, through March 31, 2000:

Manufacturer/exporter | Percent margin
G-Link Technology | 10.68
GSI Technology, Inc | 4.22
Integrated Silicon Solution Inc | 16.25
Winbond Electronics Corp | 0.58

The Department will disclose to parties the calculations performed in connection with these preliminary results within five days of the date of publication of this notice. Interested parties may request a hearing within 30 days of the publication. Any hearing, if requested, will be held two days after the date rebuttal briefs are filed. Interested parties may submit case briefs not later than 30 days after the date of publication of this notice. Rebuttal briefs, limited to issues raised in the case briefs, may be filed not later than 37 days after the date of publication of this notice. The Department will publish a notice of the final results of this administrative review, which will include the results of its analysis of issues raised in any such case briefs, within 120 days of the publication of these preliminary results.

Upon completion of this administrative review, the Department shall determine, and the Customs Service shall assess, antidumping duties on all appropriate entries. We have calculated importer-specific assessment rates based on the ratio of the total amount of antidumping duties calculated for the examined sales to the total entered value of each importer's sales during the POR. These rates will be assessed uniformly on all entries of particular importers made during the POR. Pursuant to 19 CFR 351.106(c)(2), we will instruct the Customs Service to liquidate without regard to antidumping duties all entries for any importer for whom the assessment rate is de minimis (i.e., less than 0.50 percent). The Department will issue appraisement instructions directly to the Customs Service.

Further, the following deposit requirements will be effective for all shipments of SRAMs from Taiwan entered, or withdrawn from warehouse, for consumption on or after the publication date of the final results of this administrative review, as provided for by section 751(a)(1) of the Act: (1) The cash deposit rates for G-Link, GSI Technology, ISSI, and Winbond will be the rates established in the final results of this review, except if the rate is less than 0.50 percent and, therefore, de minimis within the meaning of 19 CFR 351.106, the cash deposit will be zero; (2) for previously reviewed or investigated companies not listed above, the cash deposit rate will continue to be the company-specific rate published for the most recent period; (3) if the exporter is not a firm covered in this review, a prior review, or the LTFV investigation, but the manufacturer is, the cash deposit rate will be the rate established for the most recent period for the manufacturer of the merchandise; and (4) the cash deposit rate for all other manufacturers or exporters will continue to be 41.75 percent, the all others rate established in the LTFV investigation.

These deposit requirements, when imposed, shall remain in effect until publication of the final results of the next administrative review.

This notice serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review and notice are in accordance with sections 751(a)(1) and 777(i)(1) of the Act. Effective January 20, 2001, Bernard T. Carreau is fulfilling the duties of the Assistant Secretary for Import Administration.

Dated: April 30, 2001.
Bernard T. Carreau,
Deputy Assistant Secretary, Import Administration.

[FR Doc. 01-11310 Filed 5-3-01; 8:45 am]

BILLING CODE 3510-DS-P